DEPARTMENT OF THE TREASURY

Submission for OMB Review; Comment Request

March 17, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 23, 2004, to be assured of consideration.

Internal Revenue Service (IRS)

OMB Number: 1545-1703.

Form Number: IRS Form 12815.

Type of Review: Extension.

Title: Return Post Card for the Community Based Outlet Participation.

Description: This post card is used by the Community Based Outlet Program (CBOP) participants (i.e., grocery stores/pharmacies, copy centers, corporations, credit unions, city/county governments) to order products. The post card will be returns to the Western Area Distribution Center for processing.

Respondents: Individuals or households.

Estimated Number of Respondents: 10,000.

Estimated Burden Hours Respondent: 5 minutes.

Frequency of Response: On occasion.

Estimated Total Reporting Burden: 834 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-6541 Filed 3-23-04; 8:45 am]

BILLING CODE 4830-01-P